DEPARTMENT OF ENERGY

Federal Energy Regulatory Commission

[Docket No. EG00-227-000]

Panda-Brandywine, L.P.; Notice of Application for Commission Determination of Exempt Wholesale Generator Status

July 19, 2000.

Take notice that on July 14, 2000, Panda-Brandywine, L.P., (Applicant), 4100 Spring Valley Road, Suite 1001, Dallas, Texas 75244, filed with the Federal Energy Regulatory Commission an application for determination of exempt wholesale generator status pursuant to Part 365 of the Commission's regulations.

Applicant owns and operates a nominal 253 MW electric generating facility located near Brandywine, Maryland. The facility's electricity is sold exclusively at wholesale.

Any person desiring to be heard concerning the application for exempt wholesale generator status should file a motion to intervene or comments with the Federal Energy Regulatory Commission, 888 First Street, NE., Washington, DC 20426, in accordance with Rules 211 and 214 of the Commission's Rules of Practice and Procedure (18 CFR 385.211 and 385.214). The Commission will limit its consideration of comments to those that concern the adequacy or accuracy of the application. All such motions and comments should be filed on or before August 9, 2000, and must be served on the applicant. Any person wishing to become a party must file a motion to intervene. Copies of this filing are on file with the Commission and are available for public inspection or on the Internet at http://www.ferc.fed.us/online/rims.htm (please call (202) 208-2222 for assistance).

David P. Boergers,
Secretary.

[FR Doc. 00-18967 Filed 7-26-00; 8:45 am]

BILLING CODE 6717-01-M